FARM CREDIT ADMINISTRATION

12 CFR Part 630

Compensation, Retirement Programs, and Related Benefits

CFR Correction

In Title 12 of the Code of Federal Regulations, Parts 600 to 899, revised as of January 1, 2013, on page 322, in § 630.20, paragraph (i) is revised to read as follows:

§ 630.20 Contents of the annual report to investors.

* * * * *

(i) Compensation of directors and senior officers. State that information on the compensation of directors and senior officers of Farm Credit banks is contained in each bank's annual report to shareholders and that the annual report of each bank is available to investors upon request pursuant to § 630.3(g). State whether advisory votes were held in any of the disclosure entities during the reporting period and the results of such vote.

* * * * *

[FR Doc. 2014-08939 Filed 4-16-14; 8:45 am]

BILLING CODE 1505-01-D